DEPARTMENT OF LABOR

Mine Safety and Health Administration

30 CFR Parts 57, 70, 72, and 75

[Docket No. MSHA-2014-0031]

RIN 1219-AB86

Exposure of Underground Miners to Diesel Exhaust

AGENCY: Mine Safety and Health Administration, Labor.

ACTION: Request for information; reopening of the comment period.

SUMMARY: In response to requests from the public, the Mine Safety and Health Administration (MSHA) is reopening the proposed rulemaking record for public comment on the Agency's request for information on Exposure of Underground Miners to Diesel Exhaust.

DATES: The comment period for the request for information, published on June 8, 2016 (81 FR 36826), and closed on November 30, 2016, (81 FR 58424) is reopened. Comments must be received on or before midnight Eastern Standard Time on January 9, 2018.

ADDRESSES: Submit comments and informational materials for the rulemaking record, identified by RIN 1219-AB86 or Docket No. MSHA-2014-0031, by one of the following methods:

• Federal E-Rulemaking Portal: http://www.regulations.gov. Follow the on-line instructions for submitting comments.

• E-Mail: zzMSHA-comments@dol.gov.

• Mail: MSHA, Office of Standards, Regulations, and Variances, 201 12th Street South, Suite 4E401, Arlington, Virginia 22202-5452.

• Hand Delivery or Courier: 201 12th Street South, Suite 4E401, Arlington, Virginia, between 9:00 a.m. and 5:00 p.m. Monday through Friday, except Federal holidays. Sign in at the receptionist's desk on the 4th floor East, Suite 4E401.

• Fax: 202-693-9441.

Instructions: All submissions must include “RIN 1219-AB86” or “Docket No. MSHA-2014-0031.” Do not include personal information that you do not want publicly disclosed; MSHA will post all comments without change to http://www.regulations.gov and http://arlweb.msha.gov/currentcomments.asp, including any personal information provided.

Docket: For access to the docket to read comments received, go to http://www.regulations.gov or http://arlweb.msha.gov/currentcomments.asp. To read background documents, go to http://www.regulations.gov. Review the docket in person at MSHA, Office of Standards, Regulations, and Variances, 201 12th Street South, Arlington, Virginia, between 9:00 a.m. and 5:00 p.m. Monday through Friday, except Federal Holidays. Sign in at the receptionist's desk in Suite 4E401.

E-Mail Notification: To subscribe to receive an email notification when MSHA publishes rules in the Federal Register, go to http://www.msha.gov.

FOR FURTHER INFORMATION CONTACT: Sheila A. McConnell, Director, Office of Standards, Regulations, and Variances, MSHA, at mcconnell.sheila.a@dol.gov (email), 202-693-9440 (voice); or 202-693-9441 (facsimile). These are not toll-free numbers.

SUPPLEMENTARY INFORMATION: On June 8, 2016 (81 FR 36826), MSHA published a request for information (RFI) on Exposure of Underground Miners to Diesel Exhaust. The RFI sought input from the public that will help MSHA evaluate the Agency's existing standards and policy guidance on controlling miners' exposures to diesel exhaust to evaluate the effectiveness of the protection now in place to preserve miners' health.

On June 27, 2016, (81 FR 41486), MSHA published a notice in the Federal Register announcing four public meetings on the RFI. Public meetings were held on July 19, 21, and 26 and August 4, 2016. The comment period was scheduled to close on September 6, 2016; however, in response to requests from the public, MSHA extended the comment period until November 30, 2016 (81 FR 58424).

During the comment period, MSHA received requests for MSHA and the National Institute for Occupational Safety and Health (NIOSH) to convene a Diesel Exhaust Health Effects Partnership (Partnership) with the mining industry, diesel engine manufacturers, academia and representatives of organized labor to gather information regarding the complex questions contained in the RFI. In response to these requests, MSHA and NIOSH agreed to form a Partnership that includes all relevant stakeholders from the mining community to come together to understand the health effects from underground miners' exposure to diesel exhaust. The Partnership will also provide stakeholders an opportunity to consider best practices and new technologies including engineering controls that enhance control of diesel exhaust exposures to improve protections for miners.

The first meeting of the Diesel Exhaust Health Effects Partnership was held on December 8, 2016, in Washington, Pennsylvania.

During the comment period and at the Partnership meeting, MSHA received requests from stakeholders to reopen the rulemaking record for comment on the RFI and allow the comment period to remain open during the Partnership proceedings. In response to these requests, MSHA is reopening the record for comment and extending the comment period to January 9, 2018. The reopening of the record for comment will allow all interested parties an additional opportunity to re-evaluate all issues related to miners' exposure to diesel exhaust and to determine if improvements can be made.

Joseph A. Main,
Assistant Secretary of Labor for Mine Safety and Health.

[FR Doc. 2017-00104 Filed 1-6-17; 8:45 am]

BILLING CODE 4520-43-P